DEPARTMENT OF TRANSPORTATION

Federal Aviation Administration

Notice Before Waiver With Respect to Land at Roanoke Regional Airport, Roanoke, VA

AGENCY: Federal Aviation Administration (FAA), DOT.

ACTION: Notice of intent of waiver with respect to land.

SUMMARY: The FAA is publishing notice of proposed release of 1.802 acres of land at the Roanoke Regional Airport, Roanoke, Virginia to Wal-Mart Properties in exchange for 1.441 acres of land ajacent to long term parking. The land swap will provide the potential for additional parking spaces. Releasing the land does not adversely impact the Airport and the land is not needed for airport development as shown on the Airport Layout Plan. Fair Market Value of the land has been assessed for both parcels and will be a beneficial exchange for the Airport Sponsor.

DATES: Comments must be received on or before April 1, 2000.

ADDRESSES: Comments on this application may be mailed or delivered in triplicate to the FAA at the following address: Terry J. Page, Manager, FAA Washington Airports District Office, P.O. Box 16780, Washington, DC 20041-6780.

In addition, one copy of any comments submitted to the FAA must be mailed or delivered to Jacqueline L. Shuck, Executive Director, Roanoke Regional Airport, at the following address: Jacqueline L. Shuck, Executive Director, Roanoke Regional Airport Commission, 5202 Aviation Drive, Roanoke, Virginia 24012-1148.

FOR FURTHER INFORMATION CONTACT: Mr. Terry Page, Manager, Washington Airports District Office, P.O. Box 16780, Washington, DC 20041-6780; telephone (703) 661-1354, fax (703) 661-1370, e-mail Terry. Page@faa.gov.

SUPPLEMENTARY INFORMATION: On April 5, 2000, new authorizing legislation became effective. That bill, the Wendell H. Ford Aviation investment and Reform Act for the 21st Century, Public Law 10-181 (Apr. 5, 2000; 114 Stat. 61) (AIR 21) requires that a 30 day public notice must be provided before the Secretary may waive any condition imposed on an interest in surplus property.

Issued in Chantilly, Virginia on February 7, 2002.
Terry J. Page,
Manger, Washington Airports District Office, Eastern Region.

[FR Doc. 02-4957 Filed 2-28-02; 8:45 am]

BILLING CODE 4910-13-M